DEPARTMENT OF THE TREASURY

Internal Revenue Service

26 CFR Part 1

[TD 8884]

RIN 1545-AV88

Consolidated Returns-Limitations on the Use of Certain Credits; Correction

AGENCY: Internal Revenue Service (IRS), Treasury.

ACTION: Correction to final regulations.

SUMMARY: This document contains a correction to final regulations that were published in the Federal Register on Thursday, May 25, 2000 (65 FR 33753) relating to consolidated returns-limitations on the use of certain credits.

DATES: This correction is effective May 25, 2000.

FOR FURTHER INFORMATION CONTACT: Marie C. Milnes-Vasquez (202) 622-7770 (not a toll-free number).

SUPPLEMENTARY INFORMATION:

Background

The final regulations that are the subject of this correction are under section 1502 of the Internal Revenue Code.

Need for Correction

As published, the final regulations contain an error that may prove to be misleading and are in need of clarification.

Correction of Publication

Accordingly, the publication of the final regulations (TD 8884), that were the subject of FR Doc. 00-11901, is corrected as follows:

§ 1.1502-3 [Corrected]

On page 33758, column 1, § 1.1502-3(d)(5), paragraph (iv) of the Example, line 6 from the bottom of the paragraph, the language “contributions to the consolidated section” is corrected to read “contribution to the consolidated section”.

LaNita Van Dyke,
Acting Chief, Regulations Unit, Office of Special Counsel (Modernization and Strategic Planning).

[FR Doc. 00-19944 Filed 8-7-00; 8:45 am]

BILLING CODE 4830-01-P